UNIFIED CARRIER REGISTRATION PLAN

Sunshine Act Meetings

TIME AND DATE: September 27, 2022, 12:00 p.m. to 3:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 965 0198 5886, to listen and participate in this meeting. The website to participate via Zoom Meeting and Screenshare is https://kellen.zoom.us/meeting/register/tJIod-ihpj4iEtIX6pjmoWD40vPgG6Kk1l7X.

STATUS: This meeting will be open to the public.

MATTERS TO BE CONSIDERED: The Unified Carrier Registration Plan Board of Directors (the “Board”) will continue its work in developing and implementing the Unified Carrier Registration Plan and Agreement. The subject matter of this meeting will include:

Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢ Board actions taken only in designated areas on agenda

IV. Approval of Minutes of the June 7, 2022, and August 11, 2022, UCR Board Meetings—UCR Board Chair

For Discussion and Possible Board Action

Draft Minutes from the June 7, 2022, and August 11, 2022, UCR Board meetings will be reviewed. The Board will consider action to approve.

V. Report of FMCSA—FMCSA Representative

The Federal Motor Carrier Safety Administration (FMCSA) will provide a report on relevant activity.

VI. Subcommittee Reports

Audit Subcommittee—UCR Audit Subcommittee Chair

A. Additional Compliance Evaluation Tools for the Annual State Audit Progress Report—UCR Audit Subcommittee Chair

For Discussion and Possible Board Action

The UCR Audit Subcommittee Chair will lead a discussion regarding the current evaluation process for the participating states' audit programs as required by the UCR Agreement. The Subcommittee recently approved adding the broker registration percentages to the annual state audit requirements beginning in the 2023 audit year. This additional compliance objective will require States to register brokers at 60% in order to comply. If approved, States will have six compliance objectives and will be required to qualify in three of the six to receive a passing score. The Board may take action to approve such options as may be discussed. The Audit Subcommittee recommends the UCR Board adopt this proposal.

B. Review of States' Audit Compliance Rates for Registration Years 2021 and 2022—UCR Audit Subcommittee Chair

The UCR Audit Subcommittee Chair will present registration performance statistics and the related compliance percentages, Focused Anomaly Reviews (FARs), unregistered bracket 5 and 6 motor carrier audits for the 2021 and 2022 registration years.

Finance Subcommittee—UCR Finance Subcommittee Chair

A. Maturing Certificate of Deposit on November 12, 2022—UCR Finance Subcommittee Chair and UCR Depository Manager

For Discussion and Possible Board Action

The UCR Finance Subcommittee Chair and the UCR Depository Manager will discuss the status of a certificate of deposit held at the Bank of North Dakota in the amount of $2,650,000.00 that will mature on November 12, 2022, comprised of administrative reserves previously approved by the Board. The UCR Board of Directors may take action to reinvest such funds. The Finance Subcommittee recommends reinvestment of the funds in a 12-month United States Treasury asset at the prevailing rate of interest on the date that the reinvestment is finalized.

B. Investment of Excess Fees Held by the Depository—UCR Finance Subcommittee Chair and UCR Depository Manager

For Discussion and Possible Board Action

The UCR Finance Subcommittee Chair and the UCR Depository Manager will discuss the status of excess fees held by the UCR Depository and potential investment opportunities for the UCR Board of Directors consideration. The UCR Board may take action to invest such excess fees with intent to minimize future fee rates for motor carriers. The UCR Finance Subcommittee recommends that the 2021 excess fees be invested in a 6-month United States Treasury asset and the 2022 excess fees be invested in a 12-month United States Treasury asset.

C. Transactional Authorizations at the Bank of North Dakota—UCR Finance Subcommittee Chair

For Discussion and Possible Board Action

The Bank of North Dakota, a long-time partner with UCR, is requiring renewed authorizations to transact Automated Clearing House (ACH) banking matters. A discussion will be led by the UCR Finance Subcommittee Chair to direct appropriate authority for transacting ACH business. The Board may take action to appoint appropriate management or governance (Board Members, Subcommittee Members and/or the UCR Executive Director) to authorize ACH banking transactions. The Finance Subcommittee recommends that 3 individuals be authorized to execute these transactions and a fourth individual be authorized upon appointment to the UCR Board of Directors by the FMCSA.

D. Preview of the 2023 Administrative Expense Budget—UCR Depository Manager

The UCR Depository Manager will provide a preview of the 2023 administrative expense budget. A final budget will be presented to the UCR Board of Directors for review and consideration at the December 8, 2022, UCR Board Meeting.

Education and Training Subcommittee—UCR Education and Training Subcommittee Chair

Update on Current and Future Training Initiatives—UCR Education and Training Subcommittee Chair and UCR Staff Executive

The Education and Training Subcommittee Chair and the UCR Staff Executive will provide an update on current and planned future training initiatives and the E-Certificate program.

Industry Advisory Subcommittee—UCR Industry Advisory Subcommittee Chair

Update on Current Initiatives—UCR Industry Advisory Subcommittee Chair and UCR Staff Executive

The UCR Industry Advisory Subcommittee Chair and the UCR Staff Executive will provide an update on current and planned initiatives regarding motor carrier industry concerns.

VII. Contractor Reports—UCR Executive Director

• UCR Executive Director's Report

The UCR Executive Director will provide a report covering recent activity for the UCR Plan.

• DSL Transportation Services, Inc.

DSL Transportation Services, Inc. will report on the latest data from the Focused Anomaly Reviews (FARs) program, discuss motor carrier inspection results, pilot projects and other matters.

• Seikosoft

Seikosoft will provide an update on recent/new activity related to the National Registration System (NRS).

• UCR Administrator Report (Kellen)

The UCR Staff Executive will provide a management report covering recent activity for the Depository, Operations, and Communications.

VIII. Other Business—UCR Board Chair

The UCR Board Chair will call for any other business, old or new, from the floor.

IX. Adjournment—UCR Board Chair

The UCR Board Chair will adjourn the meeting.

The agenda will be available no later than 5:00 p.m. Eastern time, September 20, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-21943 Filed 10-4-22; 4:15 pm]

BILLING CODE 4910-YL-P